DEPARTMENT OF COMMERCE

United States Patent and Trademark Office

Request for Comments on Issues Related to Policies and Agenda for the National Intellectual Property Law Enforcement Coordination Council

AGENCIES: U.S. Department of Justice and U.S. Patent and Trademark Office, as Co-Chairs, National Intellectual Property Law Enforcement Coordination Council.

ACTION: Notice of request for public comments.

SUMMARY: The Members of the National Intellectual Property Law Enforcement Coordination Council (the Council) seek public comment on issues associated with the Council's mission. Interested members of the public are invited to present written comments on any of the topics outlined in the Supplementary Information section of this Notice.

DATES: All comments are due by June 20, 2000.

ADDRESSES: Persons wishing to offer written comments should address those comments to Under Secretary of Commerce for Intellectual Property and Director of the United States Patent and Trademark Office, Box 4, Washington, D.C. 20231, marked to the attention of Elizabeth Shaw. Comments may also be submitted by facsimile transmission to (703) 305-8885, or by electronic mail through the Internet to elizabeth.shaw@uspto.gov. All comments will be maintained for public inspection in Room 902 , Crystal Park II, 2121 Crystal Drive, Arlington, Virginia.

FOR FURTHER INFORMATION CONTACT: Elizabeth Shaw by telephone at (703) 305-9300, by fax at (703) 305-8885, or by mail marked to her attention and addressed to Under Secretary of Commerce for Intellectual Property and Director of the United States Patent and Trademark Office, Box 4, Washington, D.C. 20231.

SUPPLEMENTARY INFORMATION:

1. Background

On September 29, 1999, President William J. Clinton signed into law the Treasury/Postal Appropriations Bill, Public Law No. 106-58, Section 653, which created the “National Intellectual Property Law Enforcement Coordination Council” (the Council). The Council's mission is “to coordinate domestic and international intellectual property law enforcement among federal and foreign entities.” The Council is required to “report annually on its coordination activities” to the President and to the Appropriations and Judiciary Committees of the House and Senate.

The statutorily designated Council Members, listed according to their order of mention in the statute, are: The Assistant Secretary of Commerce and Commissioner of Patents and Trademarks (Co-Chair) (under Public Law No. 106-113, the head of the United States Patent and Trademark Office is the Under Secretary of Commerce for Intellectual Property and Director of the United States Patent and Trademark Office) (The Honorable Q. Todd Dickinson); the Assistant Attorney General, Criminal Division (Co-Chair) (The Honorable James K. Robinson); the Under Secretary of State for Economic, Business, and Agricultural Affairs (The Honorable Alan P. Larson); the Deputy United States Trade Representative (Ambassador Richard Fisher); the Commissioner of Customs (The Honorable Raymond W. Kelly); and the Under Secretary of Commerce for International Trade (Acting Under Secretary Robert S. LaRussa). In addition, the statute directs the Council to consult with the Register of Copyrights (The Honorable Marybeth Peters) on law enforcement matters relating to copyrights and related matters and rights.

The full Council and their staffs have met on several occasions to begin shaping the Council's agenda. This Request for Public Comment is intended to give intellectual property rights owners (and other interested parties) an opportunity to recommend steps in furtherance of the Council's mission.

2. Issues for Public Comment

Interested members of the public are invited to present written comments on issues relevant to the policy-related objectives listed below. This forum is not intended to serve as an opportunity for the public to air individual case-related complaints unless they are relevant to broader law enforcement policy issues.

The Council's Agenda

What, if any, domestic policy-level law enforcement issues should the Council address?

What, if any, international policy-level law enforcement issues should the Council address?

Council-Industry Cooperation

In what ways can the Council assist the intellectual property industries in creating domestic and international environments conducive to enforcement of intellectual property rights?

In what ways can the Council enhance the enforcement of intellectual property rights while facilitating legitimate trade?

Are there gaps or impediments in existing law enforcement regimes that, if remedied, would enable rights-holders to better protect their intellectual property rights?

In what ways can the intellectual property industries contribute to or assist the Council in carrying out its mission of coordinating domestic and international intellectual property law enforcement-related activities?

In what ways can the Council assist U.S. Government interaction with its foreign counterparts on intellectual property law enforcement-related activities?

3. Guidelines for Written Comments

Written comments should include the name, affiliation, and title of the individual providing the written comments; and, if applicable, an indication of whether the comments offered represent the views of the respondent's organization or are the respondent's personal views.

Parties offering written comments should also provide their comments in machine-readable (electronic) format. Such submissions may be provided via Internet electronic mail or on a 3.5″ floppy disk formatted for use in either a Macintosh or MS-DOS based computer. Machine-readable (electronic) submissions should be provided as unformatted text (e.g., ASCII or plain text) or as formatted text in one of the following formats: Microsoft Word (Macintosh, DOS, or Windows versions); or WordPerfect (Macintosh, DOS, or Windows versions).

Information that is provided pursuant to this notice will be made part of a public record and may be made available via the Internet. Therefore, parties should not submit information that they do not wish to be publicly disclosed or made electronically accessible. Parties who rely on confidential information to illustrate a point are requested to summarize, or otherwise submit the information in a way that will permit its public disclosure.

Dated: May 31, 2000.
Q. Todd Dickinson,
Under Secretary of Commerce for Intellectual Property and Director of the United States Patent and Trademark Office.
John C. Keeney,
Acting Assistant Attorney General for the Criminal Division, United States Department of Justice.

[FR Doc. 00-13975 Filed 6-2-00; 8:45 am]

BILLING CODE 3510-16-P